DEPARTMENT OF COMMERCE

National Oceanic and Atmospheric Administration

50 CFR Part 300

RIN 0648-XZ20

Fraser River Sockeye Salmon Fisheries; Inseason Orders

AGENCY: National Marine Fisheries Service (NMFS), National Oceanic and Atmospheric Administration (NOAA), Commerce.

ACTION: Temporary orders; inseason orders; request for comments.

SUMMARY: NMFS publishes Fraser River salmon inseason orders to regulate salmon fisheries in U.S. waters. The orders were issued by the Fraser River Panel (Panel) of the Pacific Salmon Commission (Commission) and subsequently approved and issued by NMFS during the 2010 salmon fisheries within the U.S. Fraser River Panel Area. These orders established fishing dates, times, and areas for the gear types of U.S. treaty Indian and all citizen fisheries during the period the Panel exercised jurisdiction over these fisheries.

DATES: The effective dates for the inseason orders are set out in this document under the heading Inseason Orders. Comments will be accepted through January 3, 2011.

ADDRESSES: You may submit comments, identified by 0648-XZ20 by any one of the following methods:

Electronic Submissions: Submit all electronic public comments via the Federal eRulemaking Portal http://www.regulations.gov.

Fax: 206-526-6736.

Mail: NMFS NWR, 7600 Sand Point Way, NE., Seattle, WA 98115.

Instructions: All comments received are a part of the public record and will generally be posted to http://www.regulations.gov without change. All Personal Identifying Information (for example, name address, etc.) voluntarily submitted by the commenter may be publicly accessible. Do not submit Confidential Business Information or otherwise sensitive or protected information.

NMFS will accept anonymous comments (enter N/A in the required fields if you wish to remain anonymous). Attachments to electronic comments will be accepted in Microsoft Word, Excel, WordPerfect, or Adobe PDF file formats only.

FOR FURTHER INFORMATION CONTACT: Peggy Busby, by phone at 206-526-4323, peggy.busby@noaa.gov.

SUPPLEMENTARY INFORMATION: The Treaty between the Government of the United States of America and the Government of Canada concerning Pacific Salmon was signed at Ottawa on January 28, 1985, and subsequently was given effect in the United States by the Pacific Salmon Treaty Act (Act) at 16 U.S.C. 3631-3644.

Under authority of the Act, Federal regulations at 50 CFR part 300, subpart F provide a framework for the implementation of certain regulations of the Commission and inseason orders of the Commission's Fraser River Panel for U.S. sockeye salmon fisheries in the Fraser River Panel Area.

The regulations close the U.S. portion of the Fraser River Panel Area to U.S. sockeye salmon fishing unless opened by Panel orders that are given effect by inseason regulations published by NMFS. During the fishing season, NMFS may issue regulations that establish fishing times and areas consistent with the Commission agreements and inseason orders of the Panel. Such orders must be consistent with domestic legal obligations and are issued by Regional Administrator, Northwest Region, NMFS. Official notification of these inseason actions is provided by two telephone hotline numbers described at 50 CFR 300.97(b)(1) and in 75 FR 24482 (May 5, 2010). The inseason orders are published in the Federal Register as soon as practicable after they are issued. Due to the frequency with which inseason orders are issued, publication of individual orders is impractical. Therefore, the 2010 orders are being published in this single document to avoid fragmentation.

Inseason Orders

The following inseason orders were adopted by the Panel and issued for U.S. fisheries by NMFS during the 2010 fishing season. Each of the following inseason actions was effective upon announcement on telephone hotline numbers as specified at 50 CFR 300.97(b)(1) and in 75 FR 24482 (May 5, 2010); those dates and times are listed herein. The times listed are local times, and the areas designated are Puget Sound Management and Catch Reporting Areas as defined in the Washington State Administrative Code at Chapter 220-22.

Order Number 2010-01: Issued 12:30 p.m., July 27, 2010

Treaty Indian Fisheries:

Areas 4B, 5 and 6C: Open to drift gillnets from 12 noon, Thursday, July 29, 2010 to 12 noon, Saturday, July 31, 2010.

Order Number 2010-02: Issued 1 p.m., July 30, 2010

Treaty Indian Fisheries:

Areas 4B, 5, and 6C: Opening extended for drift gillnets from 12 noon, Saturday, July 31, 2010 to 12 noon, Wednesday, August 4, 2010.

Order Number 2010-03: Issued 1 p.m., August 3, 2010

Treaty Indian Fisheries:

Areas 4B, 5, and 6C: Opening extended for drift gillnets from 12 noon, Wednesday, August 4, 2010 to 12 noon, Saturday, August 7.

Areas 6, 7 and 7A: Open to net fishing from 5 a.m., Friday, August 6, 2010 to 5 a.m., Sunday, August 8, 2010.

All Citizen Fisheries:

Areas 7 and 7A: Open to purse seines from 5 a.m. to 9 p.m., Sunday, August 8, 2010.

Areas 7 and 7A: Open to reefnets from 5 a.m. to 9 p.m., Sunday, August 8, 2010.

Areas 7 and 7A: Open to gillnets from 8 a.m. to 11:59 p.m. (midnight), Sunday, August 8, 2010.

Order Number 2010-04: Issued 1:30 p.m., August 6, 2010

Treaty Indian Fisheries:

Areas 4B, 5, and 6C: Opening extended for drift gillnets from 12 noon, Saturday, August 7, 2010 to 12 noon, Tuesday, August 10, 2010.

Order Number 2010-05: Issued 2 p.m., August 15, 2010

Treaty Indian Fisheries:

Areas 4B, 5, and 6C: Open to drift gillnets from 6 p.m., Sunday, August 15, 2010 to 12 noon, Wednesday, August 18, 2010.

Areas 6, 7, and 7A: Open to net fishing from 5 a.m., Wednesday, August 18, 2010, to 9 p.m., Wednesday, August 18, 2010.

All Citizen Fisheries:

Areas 7 and 7A: Open to purse seines from 8 a.m., Tuesday, August 17, 2010, to 4 p.m., Tuesday, August 17, 2010.

Areas 7 and 7A: Open to reefnets from 8 a.m., Tuesday, August 17, 2010, to 4 p.m., Tuesday, August 17, 2010.

Areas 7 and 7A: Open to gillnets from 3 p.m., Tuesday, August 17, 2010, to 11 p.m., Tuesday, August 17, 2010.

Order Number 2010-06: Issued 1:30 p.m., August 17, 2010

Treaty Indian Fisheries:

Areas 4B, 5, and 6C: Opening extended for drift gillnets from 12 noon, Wednesday, August 18, 2010, to 12 noon, Friday, August 20, 2010.

Areas 6, 7, and 7A: Opening extended for net fishing from 9 p.m., Wednesday, August 18, 2010, to 9 a.m., Thursday, August 19, 2010.

Order Number 2010-07: Issued 2 p.m., August 20, 2010

Treaty Indian Fisheries:

Areas 4B, 5, and 6C: Open to drift gillnets from 3 p.m., Friday, August 20, 2010, to 12 noon, Wednesday, August 25, 2010.

Areas 6, 7, and 7A: Open to net fishing from 5 a.m., Sunday, August 22, 2010, to 9 a.m., Wednesday, August 25, 2010.

All Citizen Fisheries:

Areas 7 and 7A: Open to purse seines from 11 a.m. to 5 p.m., Saturday, August 21, 2010, in the area southerly and easterly of a straight line drawn from Iwersen's Dock on Point Roberts in the State of Washington to the Georgina Point Light at the entrance to Active Pass in the province of British Columbia.

Areas 7 and 7A: Open to reefnets from 5 a.m. to 9 p.m., Saturday, August 21, 2010.

Areas 7 and 7A: Open to gillnets from 8 a.m. to 11:59 p.m. (midnight), Saturday, August 21, 2010.

Order Number 2010-08: Issued 1:30 p.m., August 24, 2010

Treaty Indian Fisheries:

Areas 4B, 5, and 6C: Extended for drift gillnets from 12 noon, Wednesday, August 25, 2010 to 12 noon, Saturday, August 28, 2010.

Areas 6, 7, and 7A: Open to net fishing from 5 a.m., Thursday, August 26, 2010, to 9 a.m., Sunday, August 29, 2010.

All Citizen Fisheries:

Areas 7 and 7A: Open to purse seines from 5 a.m. to 9 p.m., Wednesday, August 25, 2010.

Areas 7 and 7A: Open to reefnets from 5 a.m. to 9 p.m., Wednesday, August 25, 2010, and from 5 a.m. to 9 p.m., Thursday, August 26, 2010.

Areas 7 and 7A: Open to gillnets from 8 a.m. to 11:59 p.m. (midnight), Wednesday, August 25, 2010.

Order Number 2010-09: Issued 12:30 p.m., August 27, 2010

Treaty Indian Fisheries:

Areas 4B, 5, and 6C: Extend for drift gillnets from 12 noon, Saturday, August 28, 2010, through 12 noon, Wednesday, September 1, 2010.

Areas 6, 7, and 7A: Extend for net fishing from 9 a.m., Sunday, August 29, 2010, through 9 a.m., Monday, August 30, 2010. Open to net fishing from 5 a.m., Tuesday, August 31, 2010, through 9 a.m., Wednesday, September 1, 2010.

All Citizen Fisheries:

Areas 7 and 7A: Open to purse seines from 5 a.m. to 9 p.m., Monday, August 30, 2010.

Areas 7 and 7A: Open to reefnets from 5 a.m. to 9 p.m., Monday, August 30, 2010, and from 5 a.m. to 9 p.m., Tuesday, August 31, 2010.

Areas 7 and 7A: Open to gillnets from 8 a.m. to 11:59 p.m. (midnight), Monday, August 30, 2010.

Order Number 2010-10: Issued 12:30 p.m., August 31, 2010

Treaty Indian Fisheries:

Areas 4B, 5, and 6C: Extend for drift gillnets from 12 noon, Wednesday, September 1, 2010, through 12 noon, Saturday, September 4, 2010.

Areas 6, 7, and 7A: Extend for net fishing from 9 a.m., Wednesday, September 1, 2010 through 9 a.m., Friday, September 3, 2010.

All Citizen Fisheries:

Areas 7 and 7A: Open to purse seines from 9 a.m. through 9 p.m., Friday, September 3, 2010, in the area southerly and easterly of a straight line drawn from Iwersen's dock on Point Roberts in the State of Washington to the Georgina Point Light at the entrance to Active Pass in the Province of British Columbia.

Areas 7 and 7A: Open to reefnets from 5 a.m. to 9 p.m., Friday, September 3, 2010.

Areas 7 and 7A: Open to gillnets from 8 a.m. to 11:59 p.m. (midnight), Friday, September 3, 2010.

Order Number 2010-11: Issued 12 noon, September 3, 2010

Treaty Indian Fisheries:

Areas 4B, 5, and 6C: Extend for drift gillnets from 12 noon, Saturday, September 4, 2010, through 12 noon, Wednesday, September 8, 2010.

Areas 6, 7, and 7A: Open for net fishing from 5 a.m., Saturday, September 4, 2010, through 9 a.m., Wednesday, September 8, 2010.

All Citizen Fisheries:

Areas 7 and 7A: Open to reefnets daily from 5 a.m. to 9 p.m., from Saturday, September 4, 2010, through Tuesday, September 7, 2010.

Order Number 2010-12: Issued 2 p.m., September 7, 2010

Treaty Indian Fisheries:

Areas 4B, 5, and 6C: Extend for drift gillnets from 12 noon, Wednesday, September 8, 2010, through 11:59 p.m. (midnight), Saturday, September 11, 2010.

Areas 6, 7, and 7A: Open for net fishing from 5 a.m., Thursday, September 9, 2010, through 9 a.m., Saturday, September 11, 2010.

All Citizen Fisheries:

Areas 7 and 7A: Open to purse seines from 5 a.m. through 9 p.m., Wednesday, September 8, 2010.

Areas 7 and 7A: Open to reefnets daily from 5 a.m. to 9 p.m., from Wednesday, September 8, 2010, through Friday, September 10, 2010.

Areas 7 and 7A: Open to gillnets from 8:15 a.m. to 11:59 p.m. (midnight), Wednesday, September 8, 2010.

Order Number 2010-13: Issued 12 noon, September 10, 2010

Treaty Indian Fisheries:

Areas 6, 7, and 7A: Extend for net fishing through 9 a.m., Tuesday, September 14, 2010.

All Citizen Fisheries:

Areas 7 and 7A: Extend for reefnets daily, from 5 a.m. to 9 p.m., through Friday, September 17, 2010.

Order Number 2010-14: Issued 12 noon, September 14, 2010

Treaty Indian Fisheries:

Areas 6, 7, and 7A: Open for net fishing from 5 a.m., Thursday, September 16, 2010, through 11:59 p.m. (midnight), Saturday, September 18, 2010.

All Citizen Fisheries:

Areas 7 and 7A: Open for reefnets from 5 a.m. to 9 p.m., Saturday, September 18, 2010.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: December 14, 2010.
Brian W. Parker,
Acting Director, Office of Sustainable Fisheries, National Marine Fisheries Service.

[FR Doc. 2010-31757 Filed 12-16-10; 8:45 am]

BILLING CODE 3510-22-P